DEPARTMENT OF COMMERCE

Foreign-Trade Zones Board

[B-48-2016]

Foreign-Trade Zone (FTZ) 38—Spartanburg, South Carolina Authorization of Production Activity Benteler Automotive Corporation (Automotive Suspension and Body Components) Duncan, South Carolina

On June 28, 2016, the South Carolina State Ports Authority, grantee of FTZ 38, submitted a notification of proposed production activity to the FTZ Board on behalf of Benteler Automotive Corporation, within Subzone 38F, in Duncan, South Carolina.

The notification was processed in accordance with the regulations of the FTZ Board (15 CFR part 400), including notice in the Federal Register inviting public comment (81 FR 49927, July 29, 2016). The FTZ Board has determined that no further review of the activity is warranted at this time. The production activity described in the notification is authorized, subject to the FTZ Act and the Board's regulations, including Section 400.14.

Dated: October 25, 2016.
Andrew McGilvray,
Executive Secretary.

[FR Doc. 2016-26219 Filed 10-28-16; 8:45 am]

BILLING CODE 3510-DS-P